DEPARTMENT OF TRANSPORTATION

Federal Aviation Administration

14 CFR Parts 1, 63, 121, 125, 135, 147, and 170

[Docket No. FAA-2017-0733; Amdt. Nos. 1-71, 63-39, 121-379, 125-67, 135-137, 147-8, 170-4]

RIN 2120-AL10

Removal of References to Obsolete Navigation Systems; Technical Amendment

AGENCY: Federal Aviation Administration, DOT.

ACTION: Final rule; technical amendment.

SUMMARY: The Federal Aviation Administration (FAA) is removing references to the obsolete navigation systems Loran, Omega and Consol that currently appear in FAA regulations.

DATES: Effective July 25, 2017.

FOR FURTHER INFORMATION CONTACT: Kevin C. Kelley, Flight Technologies and Procedures Division, Flight Standards Service, 470 L'Enfant Plaza SW., Washington, DC 20591; telephone: 202-267-8854; email: kevin.c.kelley@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking. Further, section 553(d)(3) of the APA requires that agencies publish a rule not less than 30 days before its effective date, except as otherwise provided by the agency for good cause found and published with the rule.

This technical amendment removes obsolete references in title 14 Code of Federal Regulations (CFR) parts 1, 63, 121, 125, 135, 147, and 170. Loran, Consol, and Omega ground stations have ceased operations, which makes these avionics receivers obsolete and useless. Continued mention of these obsolete navigation aids in title 14 of the CFR serves no purpose, and could only confuse the public. Any additional delay in correcting the regulations would be unnecessary because the changes affect terms referencing navigation aids that ceased operations over 6 years ago and as such, are not in use. Further, these corrections will not impose any additional restrictions on the persons affected by these regulations because the amendments merely align the CFR with the current state of affairs regarding operational navigation aids.

Based on the foregoing, public comment and a 30-day effective date would be unnecessary and thus, the FAA finds good cause to forgo public comment and to make the amendment effective in less than 30 days.

Technical Amendment

Loran, Consol, and Omega ground stations ceased operations over six years ago and are no longer in use. See 75 FR 22674 (April 29, 2010); 75 FR 42819 (July 22, 2010); 73 FR 26465 (May 9, 2008); 73 FR 46345 (August 8, 2008) and Amendment 71 to ICAO Annex 10, Volume 1, Aeronautical Telecommunications (adopted 12 March 1996). Therefore, with this technical amendment, the FAA is removing all references to these obsolete navigation systems from title 14 of the CFR.

List of Subjects

14 CFR Part 1

Air transportation.

14 CFR Part 63

Aircraft, Airman, Aviation Safety, Navigation (air).

14 CFR Part 121

Air carriers, Aircraft, Airmen, Aviation safety, Safety.

14 CFR Part 125

Aircraft, Airmen, Aviation safety.

14 CFR Part 135

Air taxis, Aircraft, Airmen, Aviation safety.

14 CFR Part 147

Aircraft, Airmen, Schools.

14 CFR Part 170

Air traffic control, Airports.

The Amendment

In consideration of the foregoing, the Federal Aviation Administration amends chapter I of title 14, Code of Federal Regulations as follows:

PART 1—DEFINITIONS AND ABBREVIATIONS

1. The authority citation for part 1 continues to read as follows:

Authority: 49 U.S.C. 106(f), 106(g), 40113, 44701.

2. Amend § 1.1 by revising the definition of “Long-range navigation system (LRNS)” to read as follows:

§ 1.1 General definitions.

* * * * *

Long-range navigation system (LRNS). An electronic navigation unit that is approved for use under instrument flight rules as a primary means of navigation, and has at least one source of navigational input, such as inertial navigation system or global positioning system.

* * * * *

§ 1.2 [Amended]

3. Amend § 1.2 by removing the entry “CONSOL or CONSOLAN”.

PART 63—CERTIFICATION: FLIGHT CREWMEMBERS OTHER THAN PILOTS

4. The authority citation for part 63 continues to read as follows:

Authority: 49 U.S.C. 106(g), 40113, 44701-44703, 44707, 44709-44711, 45102-45103, 45301-45302.

5. Amend appendix A to part 63 as follows:

a. Remove and reserve paragraphs (e)(26), (27), and (28); and

b. Revise paragraphs (e)(37) and (44).

The revisions read as follows:

Appendix A to Part 63—Test Requirements for Flight Navigator Certificate

* * * * *

(e) * * *

(37) Take celestial fixes at hourly intervals when conditions permit. The accuracy of these fixes shall be checked by means of a radio or visual fix whenever practicable. After allowing for the probable error of a radio or visual fix, a celestial fix under favorable conditions should plot within 10 miles of the actual position.

* * * * *

(44) Work with sufficient speed to determine the aircraft's position hourly by celestial means and also make all other observations and records pertinent to the navigation. The applicant should be able to take the observation, compute, and plot a celestial LOP within a time limit of 8 minutes; observe the absolute and pressure altimeters and compute the drift or lateral displacement within a time limit of 3 minutes.

* * * * *

6. In appendix B to part 63, the table in paragraph (a)(2)(iii) is amended by revising the entry for “Radio and long-range navigational aids” to read as follows:

Appendix B to Part 63—Flight Navigator Training Course Requirements

(a) * * *

(2) * * *

(iii) * * *

Subject | Classroom hours
* * * * *
Radio and long-range navigational aids | 35
To include:
Principles of radio transmission and reception |
Radio aids to navigation |
Government publications |
Airborne D/F equipment |
Errors of radio bearings |
Quadrantal correction |
Plotting radio bearings |
ICAO Q code for direction finding |
* * * * *

* * * * *

PART 121—OPERATING REQUIREMENTS: DOMESTIC, FLAG, AND SUPPLEMENTAL OPERATIONS

7. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95, 126 Stat 62 (49 U.S.C. 44732 note).

Appendix G to Part 121 [Amended]

8. Amend appendix G to part 121 by removing the words “Loran, Consol,” from paragraph 4.(c).

Appendix M to Part 121 [Amended]

9. Amend the table in appendix M to part 1211 by revising entry 60 to read as follows:

Appendix M to Part 121—Airplane Flight Recorder Specifications

* * * * *

Parameters | Range | Accuracy (sensor input) | Seconds per sampling interval | Resolution | Remarks
* * * * * * *
60. Primary Navigation System Reference | Discrete GPS, INS, VOR/DME, MLS, Localizer Glideslope |  | 4 |  | A suitable combination of discretes to determine the Primary Navigation System reference.
* * * * * * *

* * * * *

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

10. The authority citation for part 125 continues to read as follows:

Authority: 49 U.S.C. 106(f), 106(g), 40113, 44701-44702, 44705, 44710-44711, 44713, 44716-44717, 44722.

Appendix E to Part 125 [Amended]

11. Amend the table in appendix E to part 125 by revising entry 60 to read as follows:

Appendix E to Part 125—Airplane Flight Recorder Specifications

* * * * *

Parameters | Range | Accuracy (sensor input) | Seconds per sampling interval | Resolution | Remarks
* * * * * * *
60. Primary Navigation System Reference | Discrete GPS, INS, VOR/DME, MLS, Localizer Glideslope |  | 4 |  | A suitable combination of discretes to determine the Primary Navigation System reference.
* * * * * * *

* * * * *

PART 135—OPERATING REQUIREMENTS: COMMUTER AND ON DEMAND OPERATIONS AND RULES GOVERNING PERSONS ON BOARD SUCH AIRCRAFT

12. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

13. Amend the table in appendix F to part 135 by revising entry 60 to read as follows:

Appendix F to Part 135—Airplane Flight Recorder Specifications

* * * * *

Parameters | Range | Accuracy (sensor input) | Seconds per sampling interval | Resolution | Remarks
* * * * * * *
60. Primary Navigation System Reference | Discrete GPS, INS, VOR/DME, MLS, Localizer Glideslope |  | 4 |  | A suitable combination of discretes to determine the Primary Navigation System reference.
* * * * * * *

* * * * *

PART 147—AVIATION MAINTENANCE TECHNICIAN SCHOOLS

14. The authority citation for part 147 continues to read as follows:

Authority: 49 U.S.C. 106(g), 40113, 44701-44702, 44707-44709.

15. Amend the second table in appendix C to part 147 by revising entry 39 to read as follows:

Appendix C to Part 147—Airframe Curriculum Subjects

* * * * *

Teaching level |
* * * * * * *
(1) | 39. Inspect, check, and service aircraft electronic communication and navigation systems, including VHF passenger address interphones and static discharge devices, aircraft VOR, ILS, Radar beacon transponders, flight management computers, and GPWS.
* * * * * * *

PART 170—ESTABLISHMENT AND DISCONTINUANCE CRITERIA FOR AIR TRAFFIC CONTROL SERVICES AND NAVIGATIONAL FACILITIES

16. The authority citation for part 170 continues to read as follows:

Authority: 49 U.S.C. 106(g), 40103-40107, 40113, 44502, 44701-44702, 44708-44709, 44719, 44721-44722, 46308.

§ 170.3 [Amended]

17. Amend § 170.3 by removing the definition of “LORAN-C”.

Subpart C [Removed and Reserved]

18. Remove and Reserve subpart C.

Issued under the authority provided by 49 U.S.C. 106(f) and 44701(a) in Washington, DC on July 18, 2017.
Lirio Liu,
Director, Office of Rulemaking.

[FR Doc. 2017-15517 Filed 7-24-17; 8:45 am]

BILLING CODE 4910-13-P